DEPARTMENT OF AGRICULTURE

Forest Service

Fremont and Winema Resource Advisory Committee

AGENCY: Forest Service, USDA.

ACTION: Notice of meeting.

SUMMARY: The Fremont and Winema Resource Advisory Committee will meet in Lakeview Oregon, for the purpose of evaluating and recommending resource management projects for funding in FY 2010, under the provisions of Title II of the Secure Rural Schools and Community Self-Determination Act of 2008 (Pub. L. 110-343).

DATES: The meeting will be held on July 21 and 22, 2009.

ADDRESSES: The meeting will take place at the Lakeview Interagency Office, 1301 South G Street, Lakeview, OR 97630.

Send written comments to Fremont and Winema Resource Advisory Committee, c/o USDA Forest Service, 2819 Dahlia Street, Klamath Falls, OR 97601 or electronically to agowan@fs.fed.us.

FOR FURTHER INFORMATION CONTACT: Amy Gowan, Designated Federal Official, c/o Klamath Ranger District, 2819 Dahlia Street, Klamath Falls, OR 97601, telephone (541) 883-6741.

SUPPLEMENTARY INFORMATION: The agenda will include a review of FY 2010 Title II project proposals submitted by the Forest Service, the public, non-profits and other agencies, presentations by project proponents, and final recommendations for funding of fiscal year 2010 projects.

All Fremont and Winema Resource Advisory Committee Meetings are open to the public. Public input and comment forum will take place in the afternoon of July 22, 2009. Interested citizens are encouraged to attend.

Dated: June 1, 2009.
Amy Gowan,
Designated Federal Official.

[FR Doc. E9-13311 Filed 6-8-09; 8:45 am]

BILLING CODE 3410-11-M